COMMITTEE FOR THE IMPLEMENTATION OF TEXTILE AGREEMENTS

Denial of Participation in the Special Access Program

AGENCY: Committee for the Implementation of Textile Agreements (CITA).

ACTION: Issuing a directive to the Commissioner of Customs suspending participation in the Special Access Program.

EFFECTIVE DATE: January 1, 2003.

FOR FURTHER INFORMATION CONTACT: Richard Stetson, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

The Committee for the Implementation of Textile Agreements (CITA) has determined that Fieldston Clothes, Inc. has violated the requirements for participation in the Special Access Program and has suspended Fieldston Clothes, Inc. from participation in the Program for the one-year period, January 1, 2003 through December 31, 2003.

Through the letter to the Commissioner of Customs published below, CITA directs the Commissioner to prohibit entry of products under the Special Access Program by or on behalf of Fieldston Clothes, Inc. during the period from January 1, 2003 through December 31, 2003, and to prohibit entry by or on behalf of Fieldston Clothes, Inc. under the Special Access Program of products manufactured from fabric exported from the United States during that period.

Requirements for participation in the Special Access Program are available in Federal Register notice 63 FR 16474, published on April 3, 1998.

Philip J. Martello,
Acting Chairman, Committee for the Implementation of Textile Agreements.

Committee for the Implementation of Textile Agreements,

Commissioner of Customs, Department of the Treasury, Washington, DC 20229.

Dear Commissioner: The purpose of this directive is to notify you that the Committee for the Implementation of Textile Agreements has suspended Fieldston Clothes, Inc. from participation in the Special Access Program for the period from January 1, through December 31, 2003. You are therefore directed to prohibit entry of products under the Special Access Program by or on behalf of Fieldston Clothes, Inc. during the period from January 1, 2003 through December 31, 2003. You are further directed to prohibit entry of products under the Special Access Program by or on behalf of Fieldston Clothes, Inc. manufactured from fabric exported from the United States during the period from January 1, 2003 through December 31, 2003.

Sincerely,

Philip J. Martello,

Acting Chairman, Committee for the Implementation of Textile Agreements.

[FR Doc. 02-32950 Filed 12-27-02; 8:45 am]

BILLING CODE 3510-DR-P